NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on June 1-3, 2005, 11545 Rockville Pike, Rockville, Maryland. The date of this meeting was previously published in the Federal Register on Wednesday, November 24, 2004 (69 FR 68412).

Wednesday, June 1, 2005, Conference Room T-2b3, Two White Flint North, Rockville, Maryland

8:30 a.m.—8:35 a.m.: Opening Remarks by the ACRS Chairman (Open)—The ACRS Chairman will make opening remarks regarding the conduct of the meeting.

8:35 a.m.—9:45 a.m.: Interim Review of the License Renewal Application for the Point Beach Nuclear Plant, Units 1 and 2 (Open)—The Committee will hear presentations by and hold discussions with representatives of the NRC staff and the Nuclear Management Company, LLC regarding the license renewal application for the Point Beach Nuclear Plant, Units 1 and 2 and the associated draft Safety Evaluation Report prepared by the NRC staff, as well as the progress being made by the NRC staff and the applicant in resolving the issue of potential common-mode failure of the auxiliary feedwater pumps due to operator actions specified in the plant procedures, and related issues.

10 a.m.—11:30 a.m.: Draft Commission Paper on Policy Issues Related to New Plant Licensing (Open)—The Committee will hear presentations by and hold discussions with representatives of the NRC staff regarding the draft Commission paper on policy issues (integrated risk and level of safety) related to new plant licensing.

12:30 p.m.—2 p.m.: Fire Risk Requantification and Probabilistic Risk Analysis (PRA) Methodology for Nuclear Power Plants (Open)—The Committee will hear presentations by and hold discussions with representatives of the NRC staff and Electric Power Research Institute (EPRI) regarding draft final NUREG/CR-6850, “EPRI/NRC-RES Fire PRA Methodology for Nuclear Power Facilities,” and related matters.

2:15 p.m.—4:15 p.m.: Draft Commission Paper on Proposed Alternatives to the Existing Single Failure Criterion (Open)—The Committee will hear presentations by and hold discussions with representatives of the NRC staff regarding the draft Commission Paper on the proposed risk-informed and performance-based alternatives to the existing single failure criterion.

4:30 p.m.—7 p.m.: Preparation of ACRS Reports (Open)—The Committee will discuss proposed ACRS reports on matters considered during this meeting as well as a proposed report responding to the Commission request in the April 26, 2005 Staff Requirements Memorandum regarding the ACRS assessment of the quality of the NRC research projects.

Thursday, June 2, 2005, Conference Room T-2b3, Two White Flint North, Rockville, Maryland

8:30 a.m.—8:35 a.m.: Opening Remarks by the ACRS Chairman (Open)—The ACRS Chairman will make opening remarks regarding the conduct of the meeting.

8:35 a.m.—10 a.m.: Draft Safety Evaluation Report Related to Grand Gulf Early Site Permit Application (Open)—The Committee will hear presentations by and hold discussions with representatives of the NRC staff and System Energy Resources Inc. regarding the NRC staff's draft Safety Evaluation Report related to the Grand Gulf Early Site Permit Application.

10:15 a.m.—11:45 a.m.: Draft Final Regulatory Guide, “Risk-Informed, Performance-Based Fire Protection for Existing Light-Water Nuclear Power Plants” (Open)—The Committee will hear presentations by and hold discussions with representatives of the NRC staff and the Nuclear Energy Institute (NEI) regarding the draft final Regulatory Guide, “Risk-Informed, Performance-Based Fire Protection for Existing Light-Water Nuclear Power Plants,” which endorses, with certain exceptions, NEI document, NEI 04-02, “Guidance for Implementing a Risk-Informed, Performance-Based Fire Protection Program Under 10 CFR 50.48 (c),” and the NRC staff's resolution of public comments.

12:45 p.m.—1:45 p.m.: Status Report on the Quality Assessment of Selected Research Projects (Open)—The Committee will hear a report by the Chairmen of the ACRS Panels regarding the status of the assessment of the quality of the thermal-hydraulic test program at the Penn State University and the containment capacity study being performed by the Sandia National Laboratories.

1:45 p.m.—2:30 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

2:30 p.m.—2:45 p.m.: Reconciliation of ACRS Comments and Recommendations (Open)—The Committee will discuss the responses from the NRC Executive Director for Operations (EDO) to comments and recommendations included in recent ACRS reports and letters. The EDO responses are expected to be made available to the Committee prior to the meeting.

3 p.m.—7 p.m.: Preparation of ACRS Reports (Open)—The Committee will discuss proposed ACRS reports.

Friday, June 3, 2005, Conference Room T-2b3, Two White Flint North, Rockville, Maryland

8:30 a.m.—5 p.m.: Preparation of ACRS Reports (Open)—The Committee will continue its discussion of proposed ACRS reports.

5 p.m.—5:30 p.m.: Miscellaneous (Open)—The Committee will discuss matters related to the conduct of Committee activities and matters and specific issues that were not completed during previous meetings, as time and availability of information permit.

Procedures for the conduct of and participation in ACRS meetings were published in the Federal Register on October 5, 2004 (69 FR 59620). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4:15 p.m., e.t.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., e.t., at least 10 days before the meeting to ensure the availability of this service. Individuals or organizations requesting this service will be responsible for telephone line charges and for providing the equipment and facilities that they use to establish the videoteleconferencing link. The availability of videoteleconferencing services is not guaranteed.

Dated: May 12, 2005.
Annette Vietti-Cook,
Secretary of the Commission.

[FR Doc. E5-2489 Filed 5-17-05; 8:45 am]

BILLING CODE 7590-01-P